DEPARTMENT OF THE INTERIOR

Bureau of Land Management

DEPARTMENT OF AGRICULTURE

Forest Service

[212.LLIDI00000.L1330000.EO0000.241A]

Notice of Availability of Draft Environmental Impact Statement for the Proposed Husky 1 North Dry Ridge Phosphate Mine, Caribou County, Idaho

AGENCY: Bureau of Land Management, Interior; and United States Forest Service, Agriculture.

ACTION: Notice of availability.

SUMMARY: In accordance with the National Environmental Policy Act of 1969 (NEPA), as amended, the Bureau of Land Management (BLM) and the Forest Service (USFS) Caribou-Targhee National Forest (CTNF) have prepared a Draft Environmental Impact Statement (DEIS) for the proposed Husky 1 North Dry Ridge Phosphate Mine, and by this Notice is announcing the opening of the public comment period.

DATES: To ensure consideration, the agencies must receive written comments on the Husky 1 North Dry Ridge Phosphate Mine Project Draft EIS by December 6, 2021. The BLM will hold a virtual public meeting on November 8, 2021, from 4:00 p.m. to 5:00 p.m. (Mountain Standard Time). Detailed information about how to participate in the meeting is available at: https://go.usa.gov/x7HSJ (case sensitive).

ADDRESSES: You may submit comments related to the Husky 1 North Dry Ridge Phosphate Mine Draft EIS by any of the following methods:

• Website: https://go.usa.gov/x7HSJ (case sensitive).

• Mail: Husky 1 North Dry Ridge Phosphate Mine Draft EIS, c/o Husky 1 North Dry Ridge Mine EIS, C/O Tetra Tech, 2525 Palmer Street, Suite 2, Missoula, MT 59808.

Please reference “Husky 1 North Dry Ridge Phosphate Mine Draft EIS” on all correspondence. A digital version of Husky 1 North Dry Ridge Phosphate Mine Draft EIS is available at the project websites:

• BLM Land Use Planning and NEPA Register: https://go.usa.gov/x7HSJ (case sensitive).

• Caribou-Targhee National Forest Current and Recent Projects http://www.fs.usda.gov/projects/ctnf/landmanagement/projects.

FOR FURTHER INFORMATION CONTACT: Wes Gilmer, BLM Pocatello Field Office, 4350 Cliffs Drive, Pocatello, ID 83204; telephone (208) 478-6369; email: wgilmer@blm.gov; fax (208) 478-6376. Persons who use a telecommunications device for the deaf (TDD) may call the Federal Relay Service (FRS) at 1-800-877-8339 to contact Mr. Gilmer. The FRS is available 24 hours a day, 7 days a week, to leave a message or question for Mr. Gilmer. You will receive a reply during normal business hours.

SUPPLEMENTARY INFORMATION: Itafos Conda LLC has submitted a Mine and Reclamation Plan (MRP) for agency review for Federal phosphate leases IDI-8289, IDI-05549, I-04 and IDI-0678 and a proposed modification (enlargement) of lease IDI-05549 at the proposed Husky 1 North Dry Ridge Phosphate Mine in Caribou County, Idaho. The BLM, as the Federal lease administrator, is the lead agency, and the USFS is the co-lead agency for preparing the EIS. The U.S. Army Corps of Engineers, Idaho Department of Environmental Quality, Idaho Department of Lands, and Idaho Governor's Office of Energy and Mineral Resources are cooperating agencies.

The Proposed Action would mine the Federal phosphate leases as outlined in the Draft EIS. The Draft EIS evaluates alternatives to the proposed action, including a no action alternative, and addresses issues identified during public scoping.

The BLM and USFS will make separate but coordinated decisions related to the proposed project. The BLM will approve, approve with modifications, or deny the MRP and lease modification. The BLM will base its decisions on public and agency input, any recommendations the USFS may have regarding surface management of leased National Forest System lands, and the Final EIS. The USFS will make recommendations to the BLM concerning surface management and mitigation on leased lands within the CTNF and will issue decisions on Special Use Authorizations for off-lease mine support activities. A Forest Plan amendment would also be necessary as outlined in the Draft EIS.

On December 23, 2020, the agencies published a Notice of Intent to prepare an EIS in the Federal Register initiating a 30-day public scoping period. The scoping process identified concerns related to impacts to water resources and watersheds from potentially elevated levels of selenium; effects to air quality, human health and safety, socioeconomics, and wildlife; reclamation and financial assurance; and mitigation and monitoring of mine operations.

The agencies have planned a virtual public meeting to summarize the document and answer questions. The date, time, and instructions for attending the virtual public meeting will be announced on the project websites.

Comments regarding the adequacy of the Draft EIS must be submitted by December 6, 2021. To assist the BLM and the USFS in identifying issues and concerns related to this project, comments should be as specific as possible.

Note that the portion of the proposed project related to Special Use Authorizations for off-lease activities is subject to the USFS objection process. This proposed project may be subject to the pre-decisional administrative review process pursuant to 36 CFR 218 subparts A and B because Forest Plan amendments may be needed. Only those who provide comment during this comment period or who have previously submitted specific written comments on the Proposed Action, either during scoping or other designated opportunity for public comment, will be eligible as objectors (36 CFR 218.5(a) and 219.53 (a)). Appeal procedures found in 43 CFR 4 apply to any BLM decision on the MRP or lease modification related Federal mineral leases.

Before including your address, phone number, email address, or other personal identifying information in your comment, you should be aware that your entire comment—including your personal identifying information—may be made publicly available at any time. While you can ask us in your comment to withhold your personal identifying information from public review, we cannot guarantee that we will be able to do so.

Authority: 42 U.S.C. 4321 et seq.; 40 CFR 1500 through 1508; 43 CFR 46; 43 U.S.C. 1701; 43 CFR 3510; 43 CFR 3590.

Todd Kuck,
Acting District Manager, Idaho Falls District.
Melvin Bolling,
Forest Supervisor, Caribou-Targhee National Forest.

[FR Doc. 2021-23027 Filed 10-21-21; 8:45 am]

BILLING CODE 4310-GG-P